ENVIRONMENTAL PROTECTION AGENCY

40 CFR Part 300

[FRL-7614-5]

National Oil and Hazardous Substances Pollution Contingency Plan; National Priorities List Update

AGENCY: Environmental Protection Agency.

ACTION: Notice of deletion of the River Road Landfill Site from the National Priorities List (NPL).

SUMMARY: The Environmental Protection Agency (EPA) Region III announces the deletion of the River Road Landfill Site (Site) in Hermitage, Pennsylvania, from the National Priorities List (NPL). The NPL constitutes appendix B of 40 CFR part 300, which is the National Oil and Hazardous Substances Pollution Contingency Plan (NCP), which EPA promulgated pursuant to section 105 of the Comprehensive Environmental Response, Compensation, and Liability Act of 1980 as amended, (CERCLA). EPA and the Commonwealth of Pennsylvania, through the Pennsylvania Department of Environmental Protection (PADEP), have determined that the remedial action for the Site has been successfully implemented under CERCLA. For this Site, the selected remedy is protective of human health and the environment as long as deed restrictions and continued operation and maintenance of the Existing Treatment Scheme described in EPA's 1995 Record of Decision currently being implemented in accordance with the attached PADEP Post-Closure Plan (or modification as required and/or approved by PADEP or EPA), are continued.

EFFECTIVE DATE: January 29, 2004.

ADDRESSES: Comprehensive information on this Site is available through the public docket which is available for viewing at the Site information repositories at the following locations: U.S. Environmental Protection Agency, Region III, Administrative Records, 1650 Arch Street, Philadelphia, Pennsylvania 19103. Telephone (215) 814-3157; and Buhl-Henderson Community Library, 11 North Sharpsville Avenue, Sharon, PA 16146.

FOR FURTHER INFORMATION CONTACT: Donna Santiago (3HS22), U.S. Environmental Protection Agency, Region III, 1650 Arch Street, Philadelphia, PA 19103. Telephone 215-814-3222.

SUPPLEMENTARY INFORMATION: The site to be deleted from the NPL is: River Road Landfill Site.

EPA published a Notice of Intent to Delete (NOID) the River Road Landfill Site from the NPL on September 26, 2003, in the Federal Register (65 FR 45013). The closing date for comments on the NOID was October 28, 2003. EPA did not receive any comments on the proposed deletion. Therefore, no responsiveness summary is necessary for attachment to this Notice of Deletion.

EPA identifies sites that appear to present a significant risk to public health, welfare, or the environment and it maintains the NPL as the list of these sites. As described in § 300.425(e)(3) of the NCP, sites deleted from the NPL remain eligible for remedial actions in the unlikely event that future conditions at the site warrant such action.

Deletion of a site from the NPL does not affect responsible party liability or impede EPA efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: January 12, 2004.
Donald S. Welsh,
Regional Administrator, Region III.

For the reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of Appendix B to Part 300 is amended by removing the site: “River Road Landfill/Waste Mngmnt, Inc.” Site, Hermitage, PA.

[FR Doc. 04-1823 Filed 1-28-04; 8:45 am]

BILLING CODE 6560-50-P